DEPARTMENT OF ENERGY

10 CFR Part 431

[Docket Number EERE-2013-BT-TP-0002]

RIN 1904-AC93

Energy Conservation Program: Test Procedures for Commercial Clothes Washers; Correction

AGENCY: Office of Energy Efficiency and Renewable Energy, Department of Energy.

ACTION: Final rule; correcting amendments.

SUMMARY: The Department of Energy (DOE) published a final rule in the Federal Register on December 3, 2014 revising the test procedure provisions for commercial clothes washers. DOE published another final rule on December 15, 2014 amending the energy conservation standards for commercial clothes washers. This final rule correction amends the test procedure provisions for commercial clothes washers to clarify the applicability of the revised test procedures to the amended energy conservation standards. The correction also removes obsolete regulatory provisions.

DATES: This correction is effective April 8, 2016.

FOR FURTHER INFORMATION CONTACT: Bryan Berringer, U.S. Department of Energy, Office of Energy Efficiency and Renewable Energy, Building Technologies Program, EE-5B, 1000 Independence Avenue SW., Washington, DC 20585-0121. Telephone: (202) 586-0371. Email: commercial_clothes_washers@ee.doe.gov.

Jennifer Tiedeman, U.S. Department of Energy, Office of the General Counsel, GC-33, 1000 Independence Avenue SW., Washington, DC 20585-0121. Telephone: (202) 287-6111. Email: Jennifer.Tiedeman@hq.doe.gov.

SUPPLEMENTARY INFORMATION: Energy conservation standards for commercial clothes washers (CCWs) are codified at 10 CFR 431.156. Pursuant to 10 CFR 431.154, the test procedures for clothes washers at 10 CFR part 430, subpart B, appendix J1 must be used to test CCWs to determine compliance with the current energy conservation standards codified at 10 CFR 431.156(b).

DOE published a final rule on March 7, 2012, establishing a new test procedure for clothes washers at 10 CFR part 430, subpart B, appendix J2. 77 FR 13887.

DOE published another final rule on December 3, 2014, revising the test procedure provisions for CCWs at 10 CFR 431.154 to specify that the test procedures for clothes washers at appendix J2 must be used to determine compliance with any amended standards for CCWs based on appendix J2 efficiency metrics published after December 3, 2014. 79 FR 71624.

DOE then published a final rule on December 15, 2014, amending the energy conservation standards for CCWs, which are codified at 10 CFR 431.156(c). 79 FR 74492. These amended standards are based on appendix J2 efficiency metrics, and compliance with the amended standards is required beginning January 1, 2018.

This final rule correction (1) removes obsolete CCW standards listed at 10 CFR 431.156(a), (2) redesignates paragraphs (b) and (c) of 10 CFR 431.156 as paragraphs (a) and (b), and (3) amends the CCW test procedure provisions at 10 CFR 431.154 to clarify that the test procedures at appendixes J1 and J2 must be used to determine compliance with the CCW energy conservation standards at redesignated 10 CFR 431.156(a) and (b), respectively.

Procedural Issues and Regulatory Review

The regulatory reviews conducted for this rulemaking are those set forth in the December 3, 2014 final rule that originally codified amendments to DOE's test procedures for commercial clothes washers. 79 FR 71624. The amendments from that final rule became effective January 2, 2015. Id.

Pursuant to the Administrative Procedure Act, 5 U.S.C. 553(b), DOE has determined that notice and prior opportunity for comment on this rule are unnecessary and contrary to the public interest. The amended CCW standards codified at 10 CFR 431.156(c) correspond to the “amended standards based on appendix J2 efficiency metrics published after December 3, 2014” referenced in 10 CFR 431.154. This correction is needed to ensure clarity regarding the amended CCW standards for which the appendix J2 test procedure must be used. This final rule also removes obsolete regulatory provisions.

List of Subjects in 10 CFR Part 431

Administrative practice and procedure, Energy conservation, Household appliances.

Issued in Washington, DC, on March 28, 2016.
Kathleen Hogan,
Deputy Assistant Secretary, Energy Efficiency and Renewable Energy.

For the reasons stated in the preamble, DOE amends part 431 of chapter II, subchapter D, of title 10 of the Code of Federal Regulations, by making the following correcting amendments:

PART 431—ENERGY EFFICIENCY PROGRAM FOR CERTAIN COMMERCIAL AND INDUSTRIAL EQUIPMENT

1. The authority citation for part 431 continues to read as follows:

Authority: 42 U.S.C. 6291-6317.

2. Section 431.154 is revised to read as follows:

§ 431.154 Test procedures.

The test procedures for clothes washers in appendix J1 to subpart B of part 430 of this chapter must be used to test commercial clothes washers to determine compliance with the energy conservation standards at § 431.156(a). The test procedures for clothes washers in appendix J2 to subpart B of part 430 of this chapter must be used to determine compliance with the energy conservation standards at § 431.156(b).

§ 431.156 [Amended]

3. Section 431.156 is amended by removing paragraph (a) and redesignating paragraphs (b) and (c) as paragraphs (a) and (b), respectively.

[FR Doc. 2016-08120 Filed 4-7-16; 8:45 am]

BILLING CODE 6450-01-P